DEPARTMENT OF DEFENSE

Department of the Army

[Docket ID: USA-2008-0055]

Privacy Act of 1974; System of Records

AGENCY: Department of the Army, DoD.

ACTION: Notice to Alter a System of Records.

SUMMARY: The Department of the Army is proposing to alter a system of records in its existing inventory of records systems subject to the Privacy Act of 1974, (5 U.S.C. 552a), as amended.

DATES: The proposed action will be effective on September 11, 2008 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on July 29, 2008, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 1, 2008.
Patricia L. Toppings
OSD Federal Register Liaison Officer, Department of Defense.

A0027-20c DAJA

System name:

Army Property Claim Files (February 22, 1993, 58 FR 10002).

Changes:

* * * * *

Categories of individuals covered by the system:

Delete entry and replace with “Individuals who, having damaged Government property, were not subject to the collection activities of other agencies or organizations and from whom the Department of the Army must recover its damages through administrative collection or through litigation on its behalf.”

Category of records in the system:

Delete entry and replace with “Individual's name, address and telephone number, case, claim and court docket numbers, copies of reports from the claim investigator, accident and police reports relating to damage, and pleadings, motions, briefs, orders, decisions, memoranda, opinions, supporting documentation, and allied material involved in representing the U.S. Army.”

Authority for maintenance of the system:

Delete entry and replace with “10 U.S.C. 3013, Secretary of the Army; 31 U.S.C. 3711, Collection and Compromise; Army Regulation 27-20, Claims; and E.O. 9397 (SSN).”

* * * * *

Storage:

Delete entry and replace with “Paper records and electronic storage media.”

Retrievability:

Delete entry and replace with “By individual's surname.”

Retention and disposal:

Delete entry and replace with “Records at the Judge Advocate General's Office are destroyed 10 years after final action; i.e., completion of litigation of determination that case will not be prosecuted. Claims settled by local Staff Judge Advocates are destroyed 6 years and 3 months after final action.”

* * * * *

Notification procedure:

Individuals seeking to determine whether information about themselves is contained in this system should address written inquiries to the Judge Advocate General, Headquarters, Department of the Army, Washington, DC 20310-2210.

Delete second paragraph and replace with “Individual should provide their full name, current address and telephone number, case or claim number that appeared on documentation, any other information that will assist in locating pertinent records, and signature.”

Record access procedures:

Individuals seeking access to information about themselves contained in this system should address written inquiries to the Judge Advocate General, Headquarters, Department of the Army, Washington, DC 20310-2210.

Delete second paragraph and replace with “Individuals should provide their full name, current address and telephone number, case or claim number that appeared on documentation, any other information that will assist in locating pertinent records, and signature.”

* * * * *

A0027-20c DAJA

System name:

Army Property Claim Files.

System location:

Staff Judge Advocate Offices at Army commands, field operating agencies, installations, and activities. A segment of the system is located at U.S. Army Claims Service, Fort Meade, MD 20755-5360.

Categories of individuals covered by the system:

Individuals who, having damaged Government property, were not subject to the collection activities of other agencies or organizations and from whom the Department of the Army must recover its damages through administrative collection or through litigation on its behalf.

Categories of records in the system:

Individual's name, address and telephone number, case, claim and court docket numbers, copies of reports from the claim investigator, accident and police reports relating to damage, and pleadings, motions, briefs, orders, decisions, memoranda, opinions, supporting documentation, and allied material involved in representing the U.S. Army.

Authority for maintenance of the system:

10 U.S.C. 3013, Secretary of the Army; 31 U.S.C. 3711, Collection and Compromise; Army Regulation 27-20, Claims; and E.O. 9397 (SSN).

Purpose(s):

To negotiate with, or to sue, as appropriate, insurance carriers, the individuals or entities responsible for loss or damage of U.S. Army property.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Justice, U.S. Attorney, and opposing parties and their attorneys as deemed necessary in litigating property claims.

Information from this system of records may also be disclosed to law students participating in a volunteer legal support program approved by the Judge Advocate General of the Army.

The “Blanket Routine Uses” set forth at the beginning of the Army's compilation of systems of records notices also apply to this system.

Policies and practices for storing, retrieving, accessing, retaining, and disposing of records in the system:

Storage:

Paper records and electronic storage media.

Retrievability:

By individual's surname.

Safeguards:

Records are accessible only by authorized personnel who are properly instructed in the permissible use of the information.

Retention and disposal:

Records at the Judge Advocate General's Office are destroyed 10 years after final action; i.e., completion of litigation of determination that case will not be prosecuted. Claims settled by local Staff Judge Advocates are destroyed 6 years and 3 months after final action.

System manager(s) and address:

The Judge Advocate General, Headquarters, Department of the Army, Washington, DC 20310-2210.

Notification procedure:

Individuals seeking to determine whether information about themselves is contained in this system should address written inquiries to the Judge Advocate General, Headquarters, Department of the Army, Washington, DC 20310-2210.

Individual should provide their full name, current address and telephone number, case or claim number that appeared on documentation, any other information that will assist in locating pertinent records, and signature.

Record access procedures:

Individuals seeking access to information about themselves contained in this system should address written inquiries to the Judge Advocate General, Headquarters, Department of the Army, Washington, DC 20310-2210.

Individuals should provide their full name, current address and telephone number, case or claim number that appeared on documentation, any other information that will assist in locating pertinent records, and signature.

Contesting record procedures:

The Army's rules for accessing records, and for contesting contents and appealing initial agency determinations are contained in Army Regulation 340-21; 32 CFR part 505; or may be obtained from the system manager.

Record source categories:

From the individual; Army records and reports; Office of Personnel Management; Department of Justice, U.S. Attorney, opposing counsel, and similar pertinent sources.

Exemptions claimed for the system:

None.

[FR Doc. E8-18592 Filed 8-11-08; 8:45 am]

BILLING CODE 5001-06-P